ENVIRONMENTAL PROTECTION AGENCY

40 CFR PART 52

[IL207-1b; FRL-7160-5]

Approval and Promulgation of Implementation Plans; Illinois

AGENCY: Environmental Protection Agency (EPA).

ACTION: Proposed rule.

SUMMARY: EPA proposes to approve new emissions tests averaging provisions for the state of Illinois. The Illinois Environmental Protection Agency (IEPA) submitted the provisions on October 9, 2001 as a requested revision to the Illinois State Implementation Plan (SIP). The new provisions provide that when conducting a compliance test, a source is considered in compliance with the relevant standard if the average of 3 emissions test runs is at or below the level specified in the emissions standard.

DATES: EPA must receive written comments on this proposed rule by May 15, 2002.

ADDRESSES: You should mail written comments to: J. Elmer Bortzer, Chief, Regulation Development Section, Air Programs Branch (AR-18J), U.S. Environmental Protection Agency, Region 5, 77 West Jackson Boulevard, Chicago, Illinois 60604.

You may inspect copies of the State submittal and EPA's analysis of it at:

Regulation Development Section, Air Programs Branch (AR-18J), U.S. Environmental Protection Agency, Region 5, 77 West Jackson Boulevard, Chicago, Illinois 60604.

FOR FURTHER INFORMATION CONTACT: David Pohlman, Environmental Acientist, Regulation Development Section, Air Programs Branch (AR-18J), U.S. Environmental Protection Agency, Region 5, 77 West Jackson Boulevard, Chicago, Illinois 60604, (312) 886-3299.

SUPPLEMENTARY INFORMATION: Throughout this document wherever “we”, “us”, or “our” are used we mean EPA.

Table of Contents

I. What action Is EPA Taking today?

II. Where can I find more information about this proposal and the corresponding direct final rule?

I. What Action Is EPA Taking Today?

We are proposing to approve new emissions tests averaging provisions for the state of Illinois. The IEPA submitted the provisions on October 9, 2001 as a requested revision to the Illinois SIP. The new provisions provide that when conducting a compliance test, a source is considered in compliance with the relevant standard if the average of 3 emissions test runs is at or below the level specified in the emissions standard.

The emissions tests averaging provisions only apply to units that produce a consistent pattern of emissions. The emissions tests averaging provisions may not be used for determining the compliance status of emissions units that are subject to Sections 111 (Standards of Performance for New Stationary Sources) and 112 (Hazardous Air Pollutants) of the Clean Air Act or for units that are being tested for emissions generated by hazardous waste or municipal waste.

II. Where Can I Find More Information About This Proposal and the Corresponding Direct Final Rule?

For additional information see the direct final rule published in the rules section of this Federal Register.

Dated: March 7, 2002.
David A. Ullrich,
Acting Regional Administrator, Region 5.

[FR Doc. 02-8949 Filed 4-12-02; 8:45 am]

BILLING CODE 6560-50-P